FEDERAL MARITIME COMMISSION

46 CFR Parts 520 and 532

[Docket No. 10-03]

NVOCC Negotiated Rate Arrangements; Notice of Public Meeting

AGENCY: Federal Maritime Commission.

ACTION: Notice of public meeting.

SUMMARY: The Commission has determined to hold a public meeting on May 24, 2010 to receive oral comments concerning the Notice of Proposed Rulemaking published May 7, 2010 (75 FR 25150) regarding NVOCC Negotiated Rate Arrangements.

DATES: Requests to participate in the Public Meeting are due by May 14, 2010.

ADDRESSES: Address all requests to appear to: Karen V. Gregory, Secretary, Federal Maritime Commission, 800 North Capitol Street, NW., Room 1046, Washington, DC 20573-0001, (202) 523-5725, E-mail: secretary@fmc.gov.

FOR FURTHER INFORMATION CONTACT: Karen V. Gregory, Secretary, Federal Maritime Commission, 800 North Capitol Street, NW., Room 1046, Washington, DC 20573-0001, (202) 523-5725, E-mail: secretary@fmc.gov.

SUPPLEMENTARY INFORMATION: On April 29, 2010, the Federal Maritime Commission issued a Notice of Proposed Rulemaking (“NPRM”) proposing a new part 532, providing an exemption for non-vessel-operating common carriers (“NVOCCs”) agreeing to negotiated rate arrangements from certain provisions and requirements of the Shipping Act of 1984 and certain provisions and requirements of the Commission's regulations. The NPRM also announced that the Commission would hold a public meeting if any member of the public made a request to make oral comments. Such a request has been received and the Commission has determined to convene this public meeting on May 24, 2010. The meeting will be held in the Commission's Main Hearing Room, Room 100, 800 North Capitol Street, NW., Washington, DC.

Requests to appear at the meeting must be filed with the Office of the Secretary no later than 5 p.m. on May 14, 2010, and include the name, street address, e-mail address, telephone number, and the name of your company or employer, if any. Parties wishing to participate should also provide a brief statement describing the nature of their business, e.g., Federal government agencies, OTIs, associations, consultants, tariff publisher and vessel-operating common carriers.

Requests to appear should be addressed to the Office of the Secretary and submitted: By e-mail as an attachment (Microsoft Word) sent to secretary@fmc.gov; by facsimile to 202-523-0014; or by U.S. mail or courier to Federal Maritime Commission, 800 North Capitol Street, NW., Washington, DC 20573. Please note, to avoid delay, e-mail or facsimile submissions are encouraged. The Commission will announce the time of the meeting, the order of presentation, and time allotment prior to the May 24, 2010 meeting.

By the Commission.
Karen V. Gregory,
Secretary.

[FR Doc. 2010-11425 Filed 5-12-10; 8:45 am]

BILLING CODE 6730-01-P